NATIONAL AERONAUTICS AND SPACE ADMINISTRATION

Notice of Centennial Challenges

AGENCY: National Aeronautics and Space Administration (NASA).

Notice: (09-075).

ACTION: Notice of Centennial Challenges: 2009 Regolith Excavation Challenge.

SUMMARY: This notice is issued in accordance with 42 U.S.C. 2459f-1(d). The 2009 Regolith Excavation Challenge is now scheduled and teams that wish to compete may now register. The NASA Centennial Challenges is a program of prize contests to stimulate innovation and competition in technologies of interest and value to NASA and the nation. The Regolith Excavation Challenge promotes the development of new methods and technologies to excavate lunar regolith (lunar dirt). Excavation is a necessary step towards lunar resource utilization. The unique physical properties of lunar regolith make excavation an extremely difficult technical challenge. To qualify to win a prize, teams competing in the 2009 Regolith Excavation Challenge must build tele-robotic and/or autonomously operating systems that will excavate simulated lunar regolith and deliver it to a collector.

The 2009 Regolith Excavation Challenge is being administered by the California Space Education & Workforce Institute (CSEWI) for NASA. The $750,000USD prize purse is funded by NASA. This event will be conducted in a format which brings all competitors to a single location for a “head to head” competition.

DATES: The 2009 Regolith Excavation Challenge is scheduled for October 17-18, 2009.

Location: The 2009 Regolith Excavation Challenge will be held at the NASA Research Park in Moffett Field, California. For more information, see: http://researchpark.arc.nasa.gov.

FURTHER INFORMATION: To register for and get additional information regarding the 2009 Regolith Excavation Challenge including Rules, Team Agreement, eligibility, and prize criteria, visit the Web site: http://regolith.csewi.org or contact Mr. Error! Reference source not found. at CSEWI, 3201 Airpark Drive Suite 204, Santa Maria, CA 93455. Phone: 805-349-2633 or e-mail: matt.everingham@californiaspaceauthority.org.

If you have questions or comments regarding the NASA Centennial Challenges Program visit the Web site: http://www.ipp.nasa.gov/cc or contact Mr. Andrew Petro, Innovative Partnerships Program Office, NASA Headquarters, 300 E Street, SW., Washington, DC 20546-0001. E-mail: andrew.j.petro@nasa.gov.

SUPPLEMENTARY INFORMATION: The 2009 Regolith Excavation Challenge total purse of $750,000 will go to the winning teams excavating the most regolith, in excess of 150 kilograms, within a 30-minute duration. The First, Second and Third prizes are $500,000, $150,000 and $100,000, respectively.

In case of individuals, prizes can only be awarded to US Citizens or permanent residents. In the case of corporations or other entities, prizes can only be awarded to those that are incorporated in and maintain a primary place of business in the United States.

Dated: August 18, 2009.
Douglas A. Comstock,
Director, Innovative Partnerships Program Office.

[FR Doc. E9-20402 Filed 8-25-09; 8:45 am]

BILLING CODE 7510-13-P